DEPARTMENT OF COMMERCE

National Oceanic and Atmospheric Administration

[Docket No. 00309067-0067-01]

RIN 0648-ZA82]

National Marine Aquaculture Initiative: Request for Proposals for FY-2000

AGENCY: Office of Oceanic and Atmospheric Research (OAR) and National Marine Fisheries Service, National Oceanic and Atmospheric Administration, Department of Commerce.

ACTION: Notice of request for proposals.

SUMMARY: The purpose of this notice is to advise the public OAR is expanding the existing aquaculture initiative that was begun in FY-99 in order to meet the objectives of the new Department of Commerce (DOC) aquaculture policy and the NOAA Strategic Plan to Build Sustainable Fisheries. Because of the limited funds available and the specific objectives that are put forward in the policy and the plan, OAR can only entertain a limited number of proposals in every specific areas which lead to:

1. Improvements to the regulatory framework for marine aquaculture;

2. Definition of elements to be included in a code of conduct for responsible marine aquaculture and stakeholder acceptance of the code;

3. Demonstration of the use of Geographic Information System based Use-mapping of Federal and/or state waters useful to the potential siting of marine aquaculture projects;

4. Environmentally sound technologies and evaluation of impacts associated with grow-out and enhancement activities; and

5. Regional planning and coordination efforts which further regional or national marine aquaculture goals.

The topics are in rank order and some topics will require the participation of government agencies responsible for developing guidelines, rules and regulations for growing aquaculture industry. More specific guidelines for the proposal topics are provided later in this document.

OAR will make available $600,000 in FY2000 for research, developmental and programmatic activities. While matching funds are not required, applicants are encouraged to submit collaborative projects between Federal and state agencies, academic and research interests, private industry, and other partners as necessary to accomplish the tasks of the proposals. Either Grants or Cooperative Agreements will be considered for this competition. If a Cooperative Agreement, OAR will work through the NOAA/DOC Aquaculture Steering Committee to finalize the work plan. OAR recognizes that proposals that interface with ongoing offshore aquaculture or stock enhancement projects may offer opportunities for cost savings, and will be given priority when such cost savings can be realized.

DATES: Full proposals are due to the OAR, by 4 p.m. May 15, 2000. Proposal selection will occur by June 15, 2000, and grant start dates will be September 1, 2000.

ADDRESSES: Applications should be sent to the Office of Oceanic and Atmospheric Research, Attn: National Marine Aquaculture Initiative, Room 11838, NOAA, 1315 East-West Highway, Silver Spring, MD 20910.

FOR FURTHER INFORMATION CONTACT: James P. McVey, Program Director for Aquaculture, 301-713-2451, facsimile 301-713-0799, or Edwin Rhodes, National Marine Fisheries Service, 301-713-2334.

SUPPLEMENTARY INFORMATION:

I. Program Authority

Catalog of Federal Assistance Numbers: 11.417. Sea Grant Support.

Authority: 33 U.S.C. 1123(c)(4)(F).

II. Program Description

Background

Worldwide fisheries production will be inadequate to meet the needs of the world's population without supplementation through aquaculture and marine fish enhancement. The development of a robust aquaculture industry can help meet the Nation's needs for seafood and other non-edible aquaculture products, reduce imports of fishery products and benefit the nation's balance of trade. In the US marine aquaculture has been very slow to develop for a variety of reasons including the lack of appropriate technologies, difficulty in obtaining financing, concerns over environmental impacts, multi-use conflicts in the coastal zone, and difficult and expensive permit and licensing processes. However, none of these problems are insurmountable and the need for creating a marine aquaculture sector has never been greater.

NOAA includes aquaculture in its Strategic Plan under the Build Sustainable Fisheries topic as part of a three part program that integrates aquaculture, capture fisheries and coastal community development in order to maximize value from coastal and ocean resources. This plan calls for NOAA and DOC to undertake research, demonstration, education/outreach, regulatory and financial support activities in support of marine aquaculture. NOAA recognizes the role of other Federal agencies and state management partners in aquaculture and coordinates its aquaculture programs through NOAA/DOC representatives at the regional level and at the national level through the Joint Sub-Committee on Aquaculture. The NOAA/DOC program is aligned with the National Aquaculture Development Plan.

III. Funding Availability and Priorities

The Office of Oceanic and Atmospheric Research encourages proposals that address the following research, development, policy and management priorities that have been developed through the NOAA/DOC budget process. Approximately $600,000 will be available for this competition in FY 2000. We are not placing a maximum on the amount that can be requested for each project but we will be looking for appropriate budget levels relative to the scale of the project being contemplated. Projects below $100,000 are encouraged. Maximum time frame for the proposals is 18 months. Priority will be given to national issues areas, identified here, that combine and leverage the financial, manpower and infrastructure resources of federal, state, academic, non-governmental organizations, and private industry partners to expand US aquaculture. We anticipate this initiative to be long term and we will hold several planning meetings during this year to set the agenda for the following years.

Competitive proposals should be multi-disciplinary, multi-institutional, innovative, and blend the resources of Federal, State, academic and private industry resources when appropriate.

The NOAA/DOC Aquaculture Steering Committee has interpreted the results of a national workshop on aquaculture that was held August 11-13, 1999 at the NOAA facilities in Silver Spring, Maryland, to determine research and program priorities for this aquaculture initiative. As a result of this analysis and in keeping with the NOAA Strategic Plan, OAR would like to ask for proposals in the following topic areas that are listed in rank order:

Regulatory Framework

Proposals to improve understanding of measures which would lead to a more efficient and transparent license and permit procedure for aquaculture facilities and related uses in marine waters including the Exclus Economic Zone (EEZ). Proposals should identify the problem or problems to be addressed and the methodology to be used to identify measures and recommendations for improvements. This program area may require joint efforts by the industry, state and federal regulatory agencies in order to clarify and improve the present regulatory framework. Proposals may address state, regional or national permitting or federal consistency issues.

Code of Conduct for Responsible Aquaculture

NOAA will develop a code of conduct for responsible aquaculture in Federal marine waters (the exclusive economic zone, or EEZ) to guide potential applicants for Federal permits to operate aquaculture facilities in the EEZ, and will be used by Federal agencies to evaluate applications. OAR is seeking proposals that address the content of this code (e.g., aquatic health management, genetic management, etc.), and proposals that would improve stakeholder participation and acceptance of such a code. Additionally, OAR is seeking proposals from aquaculture industry sector groups to develop codes of conduct or best management plans for their industries.

Use Suitability-Mapping of EEZ and State Waters To Assist in Aquaculture Siting

OAR is seeking proposals that evaluate use/suitability mapping as a tool to assist in the siting of aquaculture facilities. Proposals should consider all sociological, environmental, technological, physical and other relative parameters that should be included in use/suitability mapping to identify potential lease sites which would avoid conflicts with other major uses and yet satisfy marine aquaculture industry requirements. This would include the need to consider state coastal management interests, fisheries and other maritime interests. Proposals that include testing or demonstration of use/suitability mapping for aquaculture siting will receive additional consideration.

Environmentally Sound Technologies and Impacts (Specifically for Grow-Out and Enhancement)

The NOAA goal to promote the development of environmentally sound aquaculture requires information on the impacts of aquaculture under present operating conditions and predictions of impacts with increased aquaculture activity. Part of this goal includes the development of production technologies to improve the environmental performance of aquaculture production systems and locations.

OAR is seeking proposals that evaluate environmental impacts of aquaculture production systems, particularly those that will provide information on impacts from aquaculture facilities in the EEZ. Proposals that address the environmental aspects of stock enhancement will also be considered.

Regional Planning and Coordination

OAR recognizes the need for integrated regional planning and prioritization in order to focus Federal and assistance efforts. OAR is seeking proposals to establish mechanisms for broad regional planning that would address the NOAA goals to promote environmentally sound marine aquaculture. Specifically, OAR seeks proposals from the northeast, southeast, Gulf, Pacific and Great Lakes regions. Some regional planning groups have formed based on the regional focus sessions at the August 1999 workshop, and these groups will be given priority.

We are particularly interested in working on the above issues in order to create a regulatory and management environment conducive to sound industry development. This will require partnerships between State and Federal agencies, non-government organizations, the industry and the academic and regulatory authorities necessary to achieve this goal.

IV. What To Submit

Full Proposal Guidelines

Each full proposal should include the first six items listed below: the standard forms included as Item 7 will only be required for proposals for selected funding. All pages should be single- or double-spaced, typewritten in at least a 10-point font, and printed on metric A4 (210 mm × 297 mm) or 8 2″ × 11″ paper. Brevity will assist reviewers and program staff in dealing effectively with proposals. Therefore, the Project Description may not exceed 15 pages. Tables and visual materials, including figures, charts, graphs, maps, photographs and other pictorial presentations are included in the 15-page limitation; literature citations and letters of support, if any, are not included in the 15-page limitation. Conformance to the 15-page limitation will be strictly enforced. All information needed for review of the proposal should be included in the main text; no appendices, other than support letters, if any, are permitted. Failure to adhere to the above limitations will result in the proposal being rejected without review.

(2) Signed Title Page

The title page should be signed by the Principal Investigator and the institutional representative and should clearly identify the program area being addressed by starting the project title “National Marine Aquaculture Initiative.” The Principal Investigator and institutional representative should be identified by full name, title, organization, telephone number, and address. The total amount of Federal funds being requested should be listed for each budget period; the total should include all subrecipient's budgets on projects involving multiple institutions.

(2) Project Summary

This information is very important. Prior to attending the peer review panel meetings, some of the panelists may read only the project summary. Therefore, it is critical that the project summary accurately describes the research being proposed and conveys all essential elements of the research. Applicants are encouraged to use to Sea Grant Project Summary Form 90-2, but may use their own form as long as it provides the same information as the Sea Grant form. The project summary should include: 1. Title: Use the exact title as it appears in the rest of the application. 2. Investigators: List the names and affiliations of each investigator who will significantly con-tribute to the project. Start with the Principal Investigator. 3. Funding request for each year of the project, including matching funds if appropriate. 4. Project Period: Start and completion dates. Proposals should request a start date of July 1, 2000, or later. 5. Project Summary: This should include the rationale for the project, the scientific or technical objectives and/or hypotheses to be tested, and a brief summary of work to be completed.

(3) Project Description (15-page limit)

(a) Introduction/Background/Justification: Subjects that the investigator(s) may wish to include in this section are: (i) Current state of knowledge; (ii) Contributions that the study will make to the particular discipline or subject area; (iii) Contributions and impacts the study will make toward advancement of marine aquaculture technology and policy; and iv) As appropriate, contributions of investigator's previously funded research results to current proposal.

(b) Research or Technical Plan: (i) Objectives to be achieved, hypotheses to be tested; (ii) Plan of work—discuss how stated project objectives will be achieved; and (iii) Role of project personnel.

(c) Output: Describe the project outputs and impacts that will enhance the Nation's ability to develop marine aquaculture in an environmentally responsible way.

(d) Coordination with other Program Elements: Describe any coordination with other agency programs or ongoing research efforts. Describe any other proposals that are essential to the success of this proposal.

(e) Literature Cited: Should be included here, but does not count against the 15-page limit.

(4) Budget and Budget Justification

There should be a separate budget for each year of the project as well as a cumulative annual budget for the entire project. Applicants are encouraged to use the Sea Grant Budget Form 90-4, but may use their own form as long as it provides the same information as the Sea Grant form. Successful applicants whose awards would be made through a state Sea Grant Program must consult with that state Sea Grant Program budget office to ensure that all necessary overhead costs are included. Subcontracts should have a separate budget page. Matching funds must be indicated if required; failure to provide adequate matching funds will result in the proposal being rejected without review. Applicants should provide justification for all budget items in sufficient detail to enable the reviewers to evaluate the appropriateness of the funding requested. For all applications, regardless of any approved indirect cost rate applicable to the award, the maximum dollar amount of allocable indirect costs for which the Department of Commerce will reimburse the Recipient shall be the lesser of: (a) The Federal share of the total allocable indirect costs of the award based on the negotiated rate with the cognizant Federal agency as established by audit or negotiation; or (b) The line item amount for the Federal share of indirect costs contained in the approved budget of the award.

(5) Current and Pending Support

Applicants must provide information on all current and pending support for ongoing projects and proposals, including subsequent funding in the case of continuing grants. All current project support from whatever source (e.g., Federal, State, or local government agencies, private foundations, industrial or other commercial organizations) must be listed. The proposed project and all other projects or activities requiring a portion of time of the principal investigator and other senior personnel should be included, even if they receive no Federal salary support from the project(s). The number of person-months per year to be devoted to the projects must be stated, regardless of source of support. Similar information must be provided for all proposals already submitted or submitted concurrently to other possible sponsors, including those within NOAA.

(6) Vitae

(2 pages maximum per investigator).

(7) Standard Application Forms

Applicants may obtain all required application forms at the following Internet website: (http://www.nsgo.seagrant.org/research/rfp/index.html#3), from the state Sea Grant Programs, or from Dr. James McVey at the NSGO (phone: 301-713-2451 x160 or e-mail: Jim.mcvey@noaa.gov). For proposals selected for funding, the following forms must also be submitted:

(a) Standard Form 424, Application for Federal Assistance, and 424B Assurances—Non-Construction Programs, (Rev 4-88). Applications should clearly identify the program area being addressed by starting the project title with “Marine Aquaculture Initiative.” Please note that both the Principal Investigator and an administrative contact should be identified in Section 5 of the SF424. For Section 10, applicants should enter “11.417” for the CFDA Number and Sea Grant Support for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined in 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

(iv) Anti-Lobbying Disclosures. Any applicant that has paid or will pay for lobbying using any funds must submit an SF-LLL, “Disclosure of Lobbying Activities,” as required under 15 CFR Part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). Renewal of an award to increase funding or extend the period of performance is based on satisfactory performance and is at the total discretion of the DOC. SF-LLL submitted by any tier recipient or subrecipient should be submitted to DOC in accordance with the instructions contained in the award document.

V. Selection Procedures

All proposals will be sent out for written reviews and a blue ribbon panel of non-government aquaculture experts and NOAA scientists will rate the proposals in rank order for funding based on the written reviews and the panel process. OAR, in cooperation with the NOAA/DOC Steering Committee on Aquaculture, will make the final proposal selection based on the input from the selection panel, but reserves the right to select outside of rank order for programmatic balance and purposes. Selection criteria will be as follows:

60% Scientific and/or technical merit

20% Project relevance to the priorities of the RFP

10% Competency of project team and ability to complete project according to schedule

10% Plan for dissemination and incorporation of project results, including publication and extension opportunities.

Projects will be graded on a percent system with each category contributing towards a total of 100%

VI. Eligibility

Support under this call for proposals is available to all non-federal scientists as well as all federal and state agencies and institutions. Investigators submitting proposals in response to this announcement are strongly encouraged to develop inter-institutions, inter-disciplinary research teams in the form of single, integrated proposals or as individual proposals that are clearly linked together. Persons directly involved in the proposal selection process are not eligible for support. NOAA conflict of interest procedures will be followed.

VII. How To Submit

Proposals can be submitted directly to the National Sea Grant Office (NSGO), according to the schedule outlined above. Although investigators are not required to submit more than 3 copies of full proposals, the normal review process requires 10 copies. Investigators are encouraged to submit sufficient copies for the full review process if they wish all reviewers to receive color, unusually sized (not 8.5″ x 11″), or otherwise unusual materials submitted as part of the proposal. Only three copies of the Federally required forms are needed. Proposals sent to the NSGO should be addressed to: NSGO, R/SG, Attn.: Dr. James P. McVey, National Marine Aquaculture Initiative, 1315 East-West Highway, Room 11838, Silver Spring, MD 20910 (phone number for express mail applications is 301-713-2435).

Applications received after the deadline and application that deviate from the format described above will be returned to the sender without review. Facsimile transmissions and electronic mail submission of pre-proposals and full proposals will not be accepted.

VIII. Other Requirements

(A) Federal Policies and Procedures—Recipients and subrecipients are subject to all Federal laws and Federal and Department of Commerce (DOC) policies, regulations, and procedures applicable to Federal financial assistance awards.

(B) Past Performance—Unsatisfactory performance under prior Federal awards may result in an application not being considered for funding.

(C) Pre-Award Activities—If applicants incur any costs prior to an award being made, they do so solely at their own risk of not being reimbursed by the Government. Notwithstanding any verbal or written assurance that may have been received, there is no obligation on the part of DOC to cover pre-award costs.

(B) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until either:

(1) The delinquent account is paid in full,

(2) A negotiated repayment schedule is established and at least one payment is received, or

(3) Other arrangement satisfactory to DOC are made.

(F) Name Check Review—All non-profit and for-profit applicants are subject to a name check review process. Name checks are intended to reveal if any key individuals associated with the applicant have been convicted of or are presently facing criminal charges such as fraud, theft, perjury, or other matters which significantly reflect on the applicant's management honesty or financial integrity.

(G) False Statements—A false statement on an application is grounds for denial or termination of funds and grounds for possible punishment by a fine or imprisonment as provided in 18 U.S.C. 1001.

(H) Intergovernmental Review—Applications for support from the National Sea Grant College Program are not subject to Executive Order 12372, “Intergovernmental Review of Federal Programs.”

(I) Purchase of American-Made Equipment and Products—Applicants are hereby notified that they will be encouraged, to the greatest extent practicable, to purchase American-made equipment and products with funding provided under this program.

(J) Pursuant to Executive Orders 12876, 12900, and 13021, the Department of Commerce, National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs. Institutions eligible to be considered HBCU/MSIs are listed at the following Internet website: http://www.ed.gov/offices/OCR/99minin.html.

(K) For awards receiving funding for the collection or production of geospatial data (e.g., GIS data layers), the recipient will comply to the maximum extent practicable with E.O. 12906, Coordinating Geographic Data Acquisition and Access, The National Spatial Data Infrastructure, 59 FR 17671 (April 11, 1994). The award recipient shall document all new geospatial data collected or produced using the standard developed by the Federal Geographic Data Center, and make that standardized documentation electronically accessible. The standard can be found at the following Internet website:

(http://www.fgdc.gov/standards/standards/html).

L. Indirect Costs: If indirect costs are proposed, the following statement applies: The total dollar amount of the indirect costs proposed in an application must not exceed the indirect cost rate negotiated and approved by a cognizant Federal agency prior to the proposed effective date of the award.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collection of information requirements subject to the Paperwork Reduction Act. The Sea Grant Budget Form, 90-4, Sea Grant Summary Form, 90-2, and Standard Forms 424, and 424b have been approved under control numbers 0648-0362, 0648-0362, 0348-0043, and 0348-0040 with average responses estimated to take 15, 20, 45, and 15 minutes, respectively. These estimates include the time for reviewing instructions, searching existing data sources, gathering and maintaining the data needed, and completing and reviewing the collection of information. Send comments on these estimates or any other aspect of these collections to National Sea Grant College Program, R/SG, NOAA, 1315 East-West Highway, Silver Spring, MD 20910 (Attention: Francis S. Schuler). Notwithstanding any other provision of the law, no person is required to respond to, nor shall any person be subject to a penalty for failure to comply with, a collection of information subject to the requirements of the Paperwork Reduction Act, unless that collection of information displays a currently valid OMB Control Number.

Louisa Koch,
Deputy Assistant Administrator, Office of Oceanic and Atmospheric Research, National Oceanic and Atmospheric Administration.

[FR Doc. 00-7512 Filed 3-24-00; 8:45 am]

BILLING CODE 3510-KA-M